DEPARTMENT OF THE TREASURY

United States Mint

Notification of 2008 American Buffalo Gold Proof Coin Pricing

ACTION: Notification of 2008 American Buffalo Gold Proof Coin Pricing.

SUMMARY: The United States Mint is setting the price for the 2008 American Buffalo One Ounce Gold Proof Coin.

Pursuant to the authority that 31 U.S.C. 5111(a) and 5112(a)(11), & (q) grant the Secretary of the Treasury to mint and issue gold coins, and to prepare and distribute numismatic items, the United States Mint will mint and issue American Buffalo One Ounce Gold Proof Coins.

In accordance with 31 U.S.C. 5112(q)(5) & 9701(b)(2)(B), the United States Mint is setting the price of these coins to reflect recent increases in the market price of gold, as follows:

Description | Price
2008 American Buffalo One Ounce Gold Proof Coin | $1,199.95

FOR FURTHER INFORMATION CONTACT: Gloria C. Eskridge, Associate Director for Sales and Marketing, United States Mint, 801 Ninth Street, NW., Washington, DC 20220; or call 202-354-7500.

Dated: July 18, 2008.
Edmund C. Moy,
Director, United States Mint.

[FR Doc. E8-16901 Filed 7-23-08; 8:45 am]

BILLING CODE 4810-02-P